DEPARTMENT OF HEALTH AND HUMAN SERVICES

Centers for Disease Control and Prevention

[60Day-18-0212; Docket No. CDC-2018-0084]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled National Hospital Care Survey, an electronic data collection that describes hospital care utilization in the U.S.

DATES: CDC must receive written comments on or before November 13, 2018.

ADDRESSES: You may submit comments, identified by Docket No. CDC-2018-0084 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

The National Hospital Care Survey (NHCS) (OMB Control Number 0920-0212; Exp. Date 01/31/2019)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States. This three-year clearance request for NHCS includes the collection of all inpatient and ambulatory Uniform Bill-04 (UB-04) claims data or electronic health record (EHR) data as well as the collection of hospital-level information via a questionnaire from a sample of 598 hospitals.

The NHCS collects data on patient care in hospital-based settings to describe patterns of health care delivery and utilization in the United States. NHCS hospital-based settings include inpatient, emergency (EDs), and outpatient departments (OPDs). The survey will provide hospital utilization statistics for the Nation. In addition, the NHCS will also be able to monitor national trends in substance use-related ED visits including opioid visits.

NHCS consists of a nationally representative sample of 598 hospitals. These hospitals are currently being recruited, and participating hospitals are submitting all of their inpatient and ambulatory care patient data in the form of electronic UB-04 administrative claims or EHR data. Currently, hospital-level data are collected through a questionnaire administered via a web portal.

This revision seeks approval to continue voluntary recruitment of hospitals in the sample for the NHCS; continue the collection of hospital-level data through an initial intake questionnaire and an Annual Hospital Interview for all sampled hospitals; continue the collection of electronic data on inpatient discharges as well as emergency department (ED) and outpatient department (OPD) visits through the collection of EHR data, UB-04 claims, or a state file; continue collection of substance-involved ED visit data through the ED component; eliminate medical record abstraction of a sample of ED and OPD visits as part of the design of the survey; and postpone frame development for free standing ambulatory care facilities.

NHCS collects data items at the hospital, patient, inpatient discharge, and visit levels. Hospital-level data items include ownership, number of staffed beds, hospital service type, and EHR adoption. Patient-level data items are collected from electronic data and include basic demographic information, personal identifiers, name, address, social security number (if available), and medical record number (if available). Discharge-level data are collected through the UB-04 claims or EHR data and include admission and discharge dates, diagnoses, diagnostic services, and surgical and non-surgical procedures. Visit-level data are collected through EHR data and include reason for visit, diagnosis, procedures, medications, substances involved, and patient disposition.

NHCS data have distinct advantages. Through the collection of personal identifiers, NHCS data can be linked to outside datasets such as the National Death Index (OMB No. 0920-0215, Exp. Date 12/31/2019) to calculate post-discharge mortality. Additionally, NHCS offers unique opportunities to study opioid-involved health outcomes, such as repeat hospital encounters for opioid use and opioid-related mortality rates.

NHCS users include, but are not limited to, CDC, Congressional Research Office, Office of the Assistant Secretary for Planning and Evaluation (ASPE), National Institutes of Health, American Health Care Association, Centers for Medicare & Medicaid Services (CMS), SAMHSA, Bureau of the Census, Office of National Drug Control Policy, state and local governments, and nonprofit organizations. Other users of these data include universities, research organizations, many in the private sector, foundations, and a variety of users in the media.

Data collected through NHCS are essential for evaluating the health status of the population, for the planning of programs and policy to improve health care delivery systems of the Nation, for studying morbidity trends, and for research activities in the health field. Historically, data have been used extensively in the development and monitoring of goals for the Year 2000, 2010, and 2020 Healthy People Objectives.

There is no cost to respondents other than their time to participate. The total annualized burden is 7,080 hours.

Estimated Annualized Burden Hours
Type of respondents | Form name | Number of respondents | Number of responses per respondent | Average burden per response (in hours) | Total burden (in hours)
Hospital Director of Health Information Management (DHIM) or Director of Health Information Technology (DHIT) | Initial Hospital Intake Questionnaire | 150 | 1 | 1 | 150
Hospital Chief Executive Officer (CEO)/Chief Financial Officer (CFO) | Recruitment Survey Presentation | 150 | 1 | 1 | 150
Hospital DHIM or DHIT | Prepare and transmit UB-04 or State File for Inpatient and Ambulatory | 399 | 12 | 1 | 4,788
Hospital DHIM or DHIT | Prepare and transmit EHR for Inpatient and Ambulatory | 199 | 4 | 1 | 796
Hospital CEO/CFO | Annual Hospital Interview | 598 | 1 | 2 | 1,196
Total |  |  |  |  | 7,080

Jeffrey M. Zirger,
Acting Chief, Information Collection Review Office, Office of Scientific Integrity, Office of the Associate Director for Science, Office of the Director, Centers for Disease Control and Prevention.

[FR Doc. 2018-19901 Filed 9-12-18; 8:45 am]

BILLING CODE 4163-18-P